DEPARTMENT OF THE INTERIOR

Fish and Wildlife Service

Notice of Availability of Environmental Assessment

AGENCY: U.S. Fish and Wildlife Service, Department of the Interior.

ACTION: Request for public comments on an environmental assessment for Nutria (Myocastor coypus) marsh damage reduction on the Eastern Shore of Maryland.

SUMMARY: In accordance with the National Environmental Policy Act of 1969, the U.S. Fish and Wildlife Service (Service) is requesting public comments on an Environmental Assessment (EA) for nutria (Myocastor coypus) marsh damage reduction on the Eastern Shore of Maryland. The EA addresses research to determine the most effective methods for nutria control and implementation of a comprehensive control program throughout the range of nutria in Maryland.

The EA contains an analysis of the potential environmental impacts of four alternatives for managing Maryland's nutria population. Included is an assessment of potential impacts on federally threatened and endangered species, in accordance with section 7 of the Endangered Species Act.

DATES: All comments must be received on or before August 6, 2001.

ADDRESSES: Copies of the EA are available for review at the Dorchester County Library, 303 Gay Street, Cambridge, Maryland; the Talbot County Free Library, 100 W. Dover Street, Easton, Maryland; the Wicomico County Free Library, 122 S. Division Street, Salisbury, Maryland; and the visitor's center at Blackwater National Wildlife Refuge, 2145 Key Wallace Drive, Cambridge, Maryland. The EA may be obtained on the web at http://www.fws.gov/r5cbfo/nutria.htm; by written request to Maryland Nutria Partnership, c/o U.S. Fish and Wildlife Service, Chesapeake Bay Field Office, 177 Admiral Cochrane Drive, Annapolis, Maryland 21401; or by calling Mark Sherfy, at 410-573-4556. Comments may be submitted by electronic mail to nutria@fws.gov, or by writing to the Maryland Nutria Partnership at the above address.

Author

The primary author of this notice is Mark Sherfy, Chesapeake Bay Field Office, 177 Admiral Cochrane Drive, Annapolis, Maryland, 21401, phone: 410-573-4556.

Authority: The authority for this action is the National Environmental Policy Act of 1969.

Dated: June 13, 2001.
Mamie A. Parker,
Acting Regional Director, Region 5, Fish and Wildlife Service.

[FR Doc. 01-16821 Filed 7-3-01; 8:45 am]

BILLING CODE 4310-55-U